Title 3—

The President

Executive Order 13314 of August 8, 2003

Waiver Under the Trade Act of 1974 With Respect to Turkmenistan

By the authority vested in me as President by the Constitution and the laws of the United States of America, including subsection 402(c)(2) and (d) of the Trade Act of 1974, as amended (the “Act”) (19 U.S.C. 2432(c)(2) and (d)), and having made the report to the Congress set forth in subsection 402(c)(2), I hereby waive the application of subsections (a) and (b) of section 402 of the Act with respect to Turkmenistan.

B

THE WHITE HOUSE,

August 8, 2003.

[FR Doc. 03-20764

Filed 8-12-03; 8:45 am]

Billing code 3195-01-P